DEPARTMENT OF COMMERCE

Foreign-Trade Zones Board

[B-21-2020]

Foreign-Trade Zone (FTZ) 70—Detroit, Michigan, Notification of Proposed Production Activity, Pacific Industrial Development Corporation (Zeolites, Specialty Alumina Products, Rare Earth Powders and Aqueous Solutions), Ann Arbor, Michigan

Greater Detroit Foreign-Trade Zone, Inc., grantee of FTZ 70, submitted a notification of proposed production activity to the FTZ Board on behalf of Pacific Industrial Development Corporation (PIDC), located in Ann Arbor, Michigan. The notification conforming to the requirements of the regulations of the FTZ Board (15 CFR 400.22) was received on April 6, 2020.

The PIDC facility is located within FTZ 70. The facility is used for the production of zeolites, specialty alumina products, rare earth powders and aqueous solutions for use in a variety of industries. Pursuant to 15 CFR 400.14(b), FTZ activity would be limited to the specific foreign-status materials and components and specific finished products described in the submitted notification (as described below) and subsequently authorized by the FTZ Board.

Production under FTZ procedures could exempt PIDC from customs duty payments on the foreign-status components used in export production. On its domestic sales, for the foreign-status materials/components noted below, PIDC would be able to choose the duty rates during customs entry procedures that apply to: Alumina based materials with dopants and/or other surface properties functioning as a support material in industrial catalytic reactions; alumina catalyst support material sol (suspension of fine alumina particles) that is used as a binder in industrial catalytic reactions; lanthanum nitrate crystal; lanthanum nitrate solution; neodymium nitrate crystal; cerium nitrate crystal; cerium nitrate solution; neodymium nitrate solution; zirconium nitrate solution; and, praseodymium nitrate solution (duty rate ranges from duty-free to 5.5%). PIDC would be able to avoid duty on foreign-status components which become scrap/waste. Customs duties also could possibly be deferred or reduced on foreign-status production equipment.

The components and materials sourced from abroad include: Alumina based materials with dopants and/or other surface properties functioning as a support material in industrial catalytic reactions; lanthanum oxide; cerium carbonate; neodymium oxide; zirconium carbonate; and, praseodymium oxide (duty rate ranges from duty-free to 5.5%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 26, 2020.

A copy of the notification will be available for public inspection in the “Reading Room” section of the Board's website, which is accessible via www.trade.gov/ftz.

For further information, contact Elizabeth Whiteman at Elizabeth.Whiteman@trade.gov or (202) 482-0473.

Dated: April 7, 2020.
Andrew McGilvray,
Executive Secretary.

[FR Doc. 2020-07794 Filed 4-13-20; 8:45 am]

BILLING CODE 3510-DS-P